DEPARTMENT OF ENERGY

Federal Energy Regulatory Commission

[Project No. 14558-001]

KC Lake Hydro LLC; Notice of Surrender of Preliminary Permit

Take notice that KC Lake Hydro LLC (KC Hydro) filed a letter on January 7, 2016, describing its decision to abandon the preliminary permit for the proposed North Hadley Lake Warner Dam Hydropower Project.¹ The permit was issued on June 26, 2014, and would have expired on May 31, 2017.² The project would have been located at the outlet of Lake Warner, on the Mill River, near the Town of North Hadley, Hampshire County, Massachusetts.

¹ While not explicitly stated, KC Hydro's filing constitutes a request to surrender its preliminary permit.

² 147 FERC ¶ 62,236 (2014).

The preliminary permit for Project No. 14558 will remain in effect until the close of business, February 13, 2016. But, if the Commission is closed on this day, then the permit remains in effect until the close of business on the next day in which the Commission is open.³ New applications for this site may not be submitted until after the permit surrender is effective.

³ 18 CFR 385.2007(a)(2) (2015).

Dated: January 14, 2016.
Nathaniel J. Davis, Sr.,
Deputy Secretary.

[FR Doc. 2016-01122 Filed 1-20-16; 8:45 am]

BILLING CODE 6717-01-P